DEPARTMENT OF COMMERCE

National Oceanic and Atmospheric Administration

RTID 0648-XC239

Marine Mammals; File No. 25987

AGENCY: National Marine Fisheries Service (NMFS), National Oceanic and Atmospheric Administration (NOAA), Commerce.

ACTION: Notice; receipt of application.

SUMMARY: Notice is hereby given that Jim Darling, Ph.D., Whale Trust, P.O. Box 384, Tofino, BC V0R2Z0, Canada, has applied in due form for a permit to conduct scientific research on marine mammals.

DATES: Written, telefaxed, or email comments must be received on or before September 6, 2022.

ADDRESSES: The application and related documents are available for review by selecting “Records Open for Public Comment” from the “Features” box on the Applications and Permits for Protected Species (APPS) home page, https://apps.nmfs.noaa.gov, and then selecting File No. 25987 from the list of available applications. These documents are also available upon written request via email to NMFS.Pr1Comments@noaa.gov.

Written comments on this application should be submitted via email to NMFS.Pr1Comments@noaa.gov. Please include File No. 25987 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a five-year permit to study the social organization, behavior, and communication of humpback whales (Megaptera novaeangliae; Hawaii and Mexico distinct population segments [DPSs]) in Alaska and Hawaii. Humpback whales may be taken during vessel surveys and aerial surveys (manned or unmanned aircraft systems) for counts, above water and underwater photography and videography, photo-identification, photogrammetry, behavioral observations, passive acoustic recording, active acoustic playbacks, exhaled air sampling, biopsy sampling, and tagging with suction-cup or dart tags. Ten species of non-target marine mammals may be opportunistically studied or unintentionally harassed during research including ESA-listed Hawaiian monk seals (Neomonachus schauinslandi), false killer whales (Pseudorca crassidens; Main Hawaiian Islands Insular DPS), and North Pacific right whales (Eubalaena japonica). See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 2, 2022.
Julia M. Harrison,
Chief, Permits and Conservation Division, Office of Protected Resources, National Marine Fisheries Service.

[FR Doc. 2022-16808 Filed 8-4-22; 8:45 am]

BILLING CODE 3510-22-P